DEPARTMENT OF AGRICULTURE

Animal and Plant Health Inspection Service

[Docket No. APHIS-2017-0003]

Notice of Request for Reinstatement of an Information Collection; Federal Plant Pest and Noxious Weeds Regulations

AGENCY: Animal and Plant Health Inspection Service, USDA.

ACTION: Reinstatement of an information collection; comment request.

SUMMARY: In accordance with the Paperwork Reduction Act of 1995, this notice announces the Animal and Plant Health Inspection Service's intention to request the reinstatement of an information collection associated with the Federal plant pest and noxious weeds regulations.

DATES: We will consider all comments that we receive on or before April 14, 2017.

ADDRESSES: You may submit comments by either of the following methods:

• Federal eRulemaking Portal: Go to http://www.regulations.gov/#!docketDetail;D=APHIS-2017-0003.

• Postal Mail/Commercial Delivery: Send your comment to Docket No. APHIS-2017-0003, Regulatory Analysis and Development, PPD, APHIS, Station 3A-03.8, 4700 River Road Unit 118, Riverdale, MD 20737-1238.

Supporting documents and any comments we receive on this docket may be viewed at http://www.regulations.gov/#!docketDetail;D=APHIS-2017-0003 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information regarding the Federal plant pest and noxious weeds regulations, contact Dr. Colin D. Stewart, Assistant Director, Pests, Pathogens, and Biocontrol Permits Branch, Plant Health Programs, PPQ, APHIS, 4700 River Road Unit 133, Riverdale, MD 20737-1236; (301) 851-2237. For copies of more detailed information on the information collection, contact Ms. Kimberly Hardy, APHIS' Information Collection Coordinator, at (301) 851-2483.

SUPPLEMENTARY INFORMATION: Title: Federal Plant Pest and Noxious Weeds Regulations.

OMB Control Number: 0579-0054.

Type of Request: Reinstatement of an information collection.

Abstract: The Plant Protection Act (the Act, 7 U.S.C. 7701 et seq.) authorizes the Secretary of Agriculture to restrict the importation, entry, exportation, or interstate movement of plants, plant products, biological control organisms, noxious weeds, articles, or means of conveyance, if the Secretary determines that the prohibition or restriction is necessary to prevent the introduction of plant pests or noxious weeds into the United States or their dissemination within the United States. The associated regulations that were issued by the Animal and Plant Health Inspection Service (APHIS) are located in 7 CFR parts 330 and 360.

These regulations contain information collection activities that include, but are not limited to, applications, including applications for permits to import regulated articles (e.g., plant pests, noxious weeds, or soil) or to move regulated articles interstate; labels; compliance agreements; and appeal, denial, and cancellation of permits. These information collection activities allow APHIS to evaluate the risks associated with the importation or interstate movement of plant pests, noxious weeds, and soil, and also assists with developing risk mitigations, if necessary, for the importation or interstate movement of plant pests, noxious weeds, and soil.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.46 hours per response.

Respondents: Importers and shippers of plant pests, noxious weeds, and other regulated articles; State plant health officials; owners/operators of regulated garbage-handling facilities; Tribal groups; and individuals.

Estimated annual number of respondents: 4,805.

Estimated annual number of responses per respondent: 7.5.

Estimated annual number of responses: 36,173.

Estimated total annual burden on respondents: 16,723 hours. (Due to averaging, the total annual burden hours may not equal the product of the annual number of responses multiplied by the reporting burden per response.)

All responses to this notice will be summarized and included in the request for OMB approval. All comments will also become a matter of public record.

Done in Washington, DC, this 7th day of February 2017.
Michael E. Gregoire,
Acting Administrator, Animal and Plant Health Inspection Service.

[FR Doc. 2017-02868 Filed 2-10-17; 8:45 am]

BILLING CODE 3410-34-P